DEPARTMENT OF TRANSPORTATION

Federal Highway Administration

[Docket No. FHWA-2024-0000]

Notice of Final Federal Agency Actions on Proposed I-5 Rose Quarter Improvement Project

AGENCY: Federal Highway Administration (FHWA), Department of Transportation (DOT).

ACTION: Notice of limitation on claims for judicial review of actions by FHWA.

SUMMARY: This notice announces actions taken by the FHWA that are final. The actions relate to a proposed highway project, the Interstate-5 (I-5) Rose Quarter Improvement Project in the Rose Quarter District of downtown Portland, Oregon. Those actions grant approvals for the project.

DATES: By this notice, FHWA is advising the public of final agency actions subject to 23 U.S.C. 139(l)(1). A claim seeking judicial review of the Federal agency's actions on the highway project will be barred unless the claim is filed on or before August 9, 2024. If the Federal law that authorizes judicial review of a claim provides a time period of less than 150 days for filing such claim, then that shorter time period still applies.

FOR FURTHER INFORMATION CONTACT: Keith Lynch, Division Administrator, Federal Highway Administration, 530 Center Street NE, Suite 420, Salem, OR 97301; Telephone: (503) 316-2540. Thomas Parker, Environmental Program Manager, Federal Highway Administration, 530 Center Street NE, Suite 420, Salem, OR 97301; Telephone: (503) 316-2549; Email: thomas.w.parker@dot.gov. Megan Channell, Rose Quarter Project Director, ODOT Region 1, 123 NW Flanders St., Portland, OR 97209; Telephone: 971-233-6510; Email: megan.channell@odot.oregon.gov.

SUPPLEMENTARY INFORMATION: Notice is hereby given that FHWA has taken final agency actions subject to 23 U.S.C. 139(l)(1) by issuing approvals for the following improvements project in the State of Oregon: the I-5 Rose Quarter Improvements Project. The actions by the agencies, and the laws under which such actions were taken, are described in the Revised Supplemental Environmental Assessment (RSEA) and Finding of No Significant Impact (FONSI) for the project, approved on March 6, 2024. The I-5 Rose Quarter Improvements Project RSEA, FONSI, and other project records are available by contacting FHWA or Oregon DOT at the addresses provided above. The RSEA and FONSI can be viewed and downloaded from the project website at https://www.i5rosequarter.org or obtained from any contact listed above. This notice applies to all Federal agency decisions that are final as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671q].

3. Land: Section 4(f) of the Department of Transportation Act of 1966 [49 U.S.C. 303; 23 U.S.C. 138]; Landscaping and Scenic Enhancement [23 U.S.C. 319].

4. Wildlife: Endangered Species Act of 1973 [16 U.S.C. 1531-1544 and section 1536]; Marine Mammal Protection Act [16 U.S.C. 1361-1423h]; Fish and Wildlife Coordination Act [16 U.S.C. 661-667d]; Migratory Bird Treaty Act [16 U.S.C. 703-712].

5. Historic and Cultural Resources: Section 106 of the National Historic Preservation Act of 1966, as amended [54 U.S.C. 306108]; Archeological Resources Protection Act of 1977 [54 U.S.C. 312501-312508]; Native American Grave Protection and Repatriation Act (NAGPRA) [25 U.S.C. 3001-3013].

6. Social and Economic: American Indian Religious Freedom Act [42 U.S.C. 1996]; Farmland Protection Policy Act (FPPA) [7 U.S.C. 4201-4209].

7. Wetlands and Water Resources: Section 404, section 401, and section 319 of the Clean Water Act [33 U.S.C. 1251-1387]; Land and Water Conservation Fund (LWCF) [16 U.S.C. 4601-4604]; Safe Drinking Water Act (SDWA) [42 U.S.C. 300f-300j-26)]; Rivers and Harbors Act of 1899 [33 U.S.C. 401-406]; Wild and Scenic Rivers Act [16 U.S.C. 1271-1287]; Emergency Wetlands Resources Act, [16 U.S.C. 3901, 3921]; Wetlands Mitigation [23 U.S.C. 119(g) and 133(b)(14)]; Flood Disaster Protection Act [42 U.S.C. 4012a and 4106].

8. Executive Orders: E.O. 11990 Protection of Wetlands; E.O. 11988 Floodplain Management; E.O. 12898, Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Keith Lynch,
FHWA Division Administrator, Salem, OR.

[FR Doc. 2024-05198 Filed 3-11-24; 8:45 am]

BILLING CODE 4910-22-P